FEDERAL MARITIME COMMISSION

FY 2016 Service Contract Inventory Analysis

AGENCY: Federal Maritime Commission.

ACTION: Notice of release of the Federal Maritime Commission's FY 2016 Service Contract Inventory Analysis.

SUMMARY: Acting in compliance with Sec. 743 of Division C of the Consolidated Appropriations Act 2010, the Federal Maritime Commission (Commission) is publishing this notice to advise the public of the availability of its FY 2016 Service Contract Inventory Analysis. The FY 2016 Service Contract Inventory Analysis includes Background, Methodology, Agency Analysis of Contracts, Contract Services and Agency Objectives, and Agency Findings.

This analysis was developed in accordance with guidance issued on October 17, 2016 by the Office of Management and Budget (OMB), Office of Procurement Policy (OFPP). The Federal Maritime Commission has posted its FY 2016 Service Contract Inventory Analysis at the following link: http://www.fmc.gov/bureaus_offices/office_of_management_services.aspx.

DATES: The inventory is available on the Commission's Web site as of March 17, 2017.

FOR FURTHER INFORMATION CONTACT: James A. Nussbaumer, Assistant Managing Director for Administration; (202) 523-5800, OMD@fmc.gov.

Dated: March 21, 2017.
Rachel Dickon,
Assistant Secretary.

[FR Doc. 2017-05917 Filed 3-24-17; 8:45 am]

BILLING CODE 6731-AA-P